DEPARTMENT OF TRANSPORTATION

Federal Aviation Administration

14 CFR Part 121

[Docket No. OST-2002-13435]

RIN 2105-AD35

Procedures for Transportation Workplace Drug and Alcohol Testing Programs: Drug and Alcohol Management Information System Reporting; Correction

AGENCY: Federal Aviation Administration (FAA), DOT.

ACTION: Correction; technical amendment.

SUMMARY: This document makes corrections to the final regulations (Appendix J to part 121) published in the Federal Register on December 31, 2003 (68 FR 75455), which revised reporting requirements and guidance for drug and alcohol testing for each Department of Transportation (DOT) agency.

DATES: Effective on December 31, 2003.

FOR FURTHER INFORMATION CONTACT: Diane J. Wood, 202-267-8442.

SUPPLEMENTARY IMFORMATION:

Background

The final regulation that is the subject of this correction resulted from a rulemaking to conform to a regulation change adopted by DOT. DOT changed their regulations to simplify the reporting process for drug and alcohol testing by requiring that each agency in the department use the same one-page form to record test results. The DOT rule resulted in a reduction in the data elements for which an employer must account, and a reduction in paperwork that must be submitted to each DOT agency.

The DOT rule also required that each agency within the department change their specific regulations to conform to the new standards required by DOT.

Need for Correction

As published, the final regulation contains an error that we hoped to correct during the rulemaking. In our section-by-section discussion about the changes we intended to make to Appendix J of part 121, we said we would change the title of section IV.B to make the title consistent with the same section in Appendix I of part 121. We failed to make that change in the rule language.

List of Subjects in 14 CFR Part 121

Air carriers, Aircraft, Airmen, Alcohol abuse, Aviation safety, Charter flights, Drug abuse, Drug testing, Reporting and recordkeeping requirements, Safety, Transportation.

Accordingly, 14 CFR part 121 is corrected by making the following correcting amendment:

PART 121—OPERATING REQUIREMENTS: DOMESTIC, FLAG, AND SUPPLEMENTAL OPERATIONS

1. The authority citation for 14 CFR part 121 continues to read as follows:

Authority: 49 U.S.C. 106(g), 40113, 40119, 41706, 44101, 44701-55702, 44705, 44709-44711, 44713, 44716-44717, 44722, 44901, 44903-44904, 44912, 45101-45105, 46105, 46301.

2. Revise section IV.B to read as follows:

IV. Handling of Test Results, Record Retention, and Confidentiality * * *

* * * * *

B. Annual Reports

* * * * *

Issued in Washington, DC, on March 12, 2004.
Donald P. Byrne,
Assistant Chief Counsel for Regulations.

[FR Doc. 04-6097 Filed 3-17-04; 8:45 am]

BILLING CODE 4910-13-P